DEPARTMENT OF HEALTH AND HUMAN SERVICES

Health Resources and Services Administration

National Advisory Council on the National Health Service Corps; Notice of Meeting

In accordance with section 10(a)(2) of the Federal Advisory Committee Act (Pub. L. 92-463), notice is hereby given of the following meeting:

Name: National Advisory Council on the National Health Service Corps (NHSC).

Dates and Times: February 10, 2011—1 p.m.-4 p.m.; February 11, 2011—8:30 a.m.-4 p.m.

Place: Bethesda North Marriott Hotel & Conference Center, 5701 Marinelli Road, Bethesda, MD 20852, Phone: 301-822-9200.

Status: The meeting will be open to the public.

Agenda: The Council is convening in Bethesda, MD to hear NHSC program updates. Findings from recent research will be discussed along with future plans for additional research. Site Partnerships, Clinician Retention and NHSC Communications and Marketing Strategies will also be part of the discussions.

For Further Information Contact: Njeri Jones, Bureau of Clinician Recruitment and Service, Health Resources and Services Administration, Parklawn Building, Room 8A-46, 5600 Fishers Lane, Rockville, MD 20857; e-mail: NJones@hrsa.gov; Telephone: 301-443-2541.

Dated: January 12, 2011.
Robert Hendricks,
Director, Division of Policy and Information Coordination.

[FR Doc. 2011-1112 Filed 1-19-11; 8:45 am]

BILLING CODE 4165-15-P